DEPARTMENT OF THE TREASURY

Office of Foreign Assets Control

Notice of OFAC Sanctions Action

AGENCY: Office of Foreign Assets Control, Treasury.

ACTION: Notice.

SUMMARY: The Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: See Supplementary Information section for effective date.

FOR FURTHER INFORMATION CONTACT: OFAC: Andrea Gacki, Director, tel.: 202-622-2490; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The SDN List and additional information concerning OFAC sanctions programs are available on OFAC's website (www.treasury.gov/ofac).

Notice of OFAC Action(s)

On May 24, 2022, OFAC determined that the property and interests in property subject to U.S. jurisdiction of the following persons are blocked under the relevant sanctions authority listed below.

Individuals

1. ALI, Usama (a.k.a. ALI, Osama; a.k.a. ALI, Oussama; a.k.a. ALI, Oussama Abd-El-Karim; a.k.a. RADWAN, Osama; a.k.a. RADWAN, Osama Abd Al Karim; a.k.a. RIZWAN, Usama Ali), Lebanon; DOB 02 Jan 1962; POB Palestine; nationality Palestinian; alt. nationality Lebanon; citizen Lebanon; alt. citizen Canada; Gender Male; Secondary sanctions risk: section 1(b) of Executive Order 13224, as amended by Executive Order 13886; Passport BA669463 (Canada); alt. Passport GA329040 (Canada); alt. Passport AJ878107 (Canada); Identification Number 47836452 (Palestinian); Refugee ID Card PR0131118 (Palestinian) (individual) [SDGT] (Linked To: HAMAS).

Designated pursuant to section 1(a)(iii)(E) of Executive Order 13224 of September 23, 2001, “Blocking Property and Prohibiting Transactions With Persons Who Commit, Threaten to Commit, or Support Terrorism,” 66 FR 49079, as amended by Executive Order 13886 of September 9, 2019, “Modernizing Sanctions To Combat Terrorism,” 84 FR 48041 (E.O. 13224, as amended), for being a leader or official of HAMAS, a person whose property and interests in property are blocked pursuant to E.O. 13224.

2. ODEH, Ahmed Sharif Abdallah (a.k.a. ODEH, Ahmad; a.k.a. ODEH, Ahmed; a.k.a. ODEH, Ahmed Sharif Abdullah; a.k.a. OUDA, Ahmed Charif Abdellah; a.k.a. UDIH, Ahmad), Jordan; DOB 01 Jan 1951; POB Jordan; nationality Jordan; Gender Male; Secondary sanctions risk: section 1(b) of Executive Order 13224, as amended by Executive Order 13886 (individual) [SDGT] (Linked To: HAMAS).

Designated pursuant to section 1(a)(iii)(A) of E.O. 13224, as amended, for having acted or purported to act for or on behalf of, directly or indirectly, HAMAS, a person whose property and interests in property are blocked pursuant to E.O. 13224.

3. QAFISHEH, Hisham Younis Yahia (a.k.a. ASLAN, Hasmet; a.k.a. QAFISHEH, Hisham Younis Yahya; a.k.a. QAFISHEH, Hisham Yunis lchiyeh; a.k.a. QAFISHIH, Hisham Yunis Yahya; a.k.a. QUFAYSHAH, Hisham Yunis Yahya), Turkey; DOB 01 Sep 1956; alt. DOB 01 Jan 1956; POB Jordan; nationality Jordan; alt. nationality Saudi Arabia; citizen Jordan; alt. citizen Palestinian; alt. citizen Turkey; Gender Male; Secondary sanctions risk: section 1(b) of Executive Order 13224, as amended by Executive Order 13886; Passport H161563 (Jordan) expires 27 Mar 2006; Identification Number 050449004 (Jordan); alt. Identification Number 9561014063 (Jordan); alt. Identification Number 2024660934 (Saudi Arabia) (individual) [SDGT] (Linked To: HAMAS).

Designated pursuant to section 1(a)(iii)(A) of E.O. 13224, as amended, for having acted or purported to act for or on behalf of, directly or indirectly, HAMAS, a person whose property and interests in property are blocked pursuant to E.O. 13224.

4. SABRI, Abdallah Yusuf Faisal (a.k.a. SABRI, Abdallah), Kuwait; DOB 1954; nationality Jordan; Gender Male; Secondary sanctions risk: section 1(b) of Executive Order 13224, as amended by Executive Order 13886 (individual) [SDGT] (Linked To: HAMAS).

Designated pursuant to section 1(a)(iii)(E) of E.O. 13224, as amended, for being a leader or official of HAMAS, a person whose property and interests in property are blocked pursuant to E.O. 13224.

BILLING CODE 4810-AL-P

Entities

Dated: May 24, 2022.
Andrea M. Gacki,
Director, Office of Foreign Assets Control, U.S. Department of the Treasury.

[FR Doc. 2022-11422 Filed 5-26-22; 8:45 am]

BILLING CODE 4810-AL-C